ENVIRONMENTAL PROTECTION AGENCY

40 CFR Part 82

[FRL-6906-4]

RIN 2060-AI41

Protection of Stratospheric Ozone: Incorporation of Clean Air Act Amendments for Reductions in Class I, Group VI Controlled Substances

AGENCY: Environmental Protection Agency (EPA).

ACTION: Direct final rule.

SUMMARY: With this action, EPA is taking direct final action on the accelerated phaseout regulations that govern the production, import, export, transformation and destruction of substances that deplete the ozone layer under the authority of Title VI of the Clean Air Act Amendments of 1990 (CAA or the Act). We are undertaking these revisions to implement recent changes (Oct. 21, 1998) to the CAA, which direct EPA to conform the U.S. methyl bromide phasedown schedule to the schedule for industrialized nations under the Montreal Protocol on Substances that Deplete the Ozone Layer (Protocol). Specifically, today's amendments reflect the Protocol's reductions in the production and consumption of class I, Group VI controlled substances (methyl bromide) for the 2001 calendar year and subsequent calendar years, as follows: beginning January 1, 2001, a 50 percent reduction in baseline levels; beginning January 1, 2003, a 70 percent reduction in baseline levels; and, beginning January 1, 2005, the complete phaseout of class I, Group VI controlled substances.

DATES: This rule will become effective on January 29, 2001 without further notice unless the Agency receives adverse comment by December 28, 2000. If we receive such comment, we will publish a timely withdrawal in the Federal Register informing the public that this rule will not take effect.

ADDRESSES: Comments on this rulemaking should be submitted in duplicate (two copies) to: Air Docket No. A-2000-24, U.S. Environmental Protection Agency, 2000 Pennsylvania Ave., NW, Room M-1500, Washington, D.C. 20460.

Materials relevant to this rulemaking are contained in Public Docket No. A-2000-24. The docket is located in room M-1500, Waterside Mall (Ground Floor), at the above address. The materials may be inspected from 8 am until 5:30 pm, Monday through Friday. We may charge a reasonable fee for copying docket materials.

FOR FURTHER INFORMATION CONTACT: The Stratospheric Ozone Information Hotline at 1-800-296-1996 between the hours of 10 am and 4 pm Eastern Standard Time, or Amber Moreen, U.S. Environmental Protection Agency, Stratospheric Protection Division (6205J), 401 M Street, S.W., Washington, D.C., 20460, (202) 564-9295.

SUPPLEMENTARY INFORMATION: We are revising the methyl bromide phaseout regulation as a direct final rule without prior proposal because we view these revisions, directly mandated by the statutory language established by Congress, as noncontroversial and anticipate no adverse comments. However, in the “Proposed Rules” section of today's Federal Register publication, we are publishing a separate document that will serve as the proposal to update the methyl bromide phaseout schedule if adverse comments are filed. This rule will be effective on January 29, 2001 without further notice unless we receive adverse comment by December 28, 2000. If EPA receives adverse comment, we will publish a timely withdrawal in the Federal Register informing the public that the rule will not take effect. We will address all public comments in a subsequent final rule based on the proposed rule. We will not institute a second comment period on this action. Any parties interested in commenting on these revisions to part 82 subpart A should do so at this time. EPA reiterates that the phasedown and phaseout levels and dates are statutorily required, and that it therefore has no discretion to alter the schedule.

Recognizing the expressed intent of Congress in recent changes to the CAA to include certain types of exemptions, the preamble to today's direct final rule also notifies the public of our intent to propose future rulemakings concerning quarantine and preshipment exemptions, as well as the post-phaseout critical and emergency use exemptions.

Table of Contents

I. What is the Legislative and Regulatory Background of the Phaseout Regulations for Ozone-Depleting Substances?

II. What is Methyl Bromide?

III. What is the Regulatory Background Relating Specifically to Methyl Bromide?

IV. How is EPA Phasing Out Methyl Bromide?

a. What does the Protocol say about the phaseout of methyl bromide?

b. What is the legal authority for phasing out methyl bromide?

c. What are today's phasedown changes?

V. What Are the Additional Changes Necessary to Facilitate the New Phaseout Schedule?

VI. Are the Existing Regulations being Amended to Reflect the Critical and Emergency Use Provisions (§ 82.3 (Definitions) and § 82.7)?

a. What Exemptions Does the Montreal Protocol Provide Beginning in 2005?

b. What is the Montreal Protocol authority for granting a critical use exemption after the phaseout?

c. What is the CAA legal authority for implementing the critical use exemption?

d. How will the U.S. incorporate the critical use exemption?

e. What is the Protocol authority for granting an emergency use exemption?

f. What is the CAA legal authority for implementing the emergency use exemption?

g. How will the Decision IX/7 affect emergency agricultural uses in the U.S.?

VII. Will Production Allowances be Available for Export to Developing Countries (§ 82.9)?

a. What does the Protocol say about 2001 production allowances for export to developing countries?

b. How did the U.S. provide for Article 5 allowances in the CAA?

c. What production for export to Article 5 countries will be allowed past 2001?

VIII. How do Today's Changes Affect the Economic Impact of the Phaseout?

IX. What are the Supporting Analyses?

a. Unfunded Mandates Reform Act

b. Regulatory Flexibility

c. Executive Order 12866

d. Applicability of Executive Order 13045—Children's Health Protection

e. Paperwork Reduction Act

f. Executive Order 13132 (Federalism)

g. Executive Order 13084: Consultation and Coordination with Indian Tribal Governments

h. National Technology Transfer and Advancement Act

i. Submission to Congress and the Comptroller General

I. What Is the Legislative and Regulatory Background of the Phaseout Regulations for Ozone-Depleting Substances?

The current regulatory requirements of the Stratospheric Ozone Protection Program that limit production and consumption of ozone-depleting substances were promulgated by the Environmental Protection Agency (EPA or the Agency) in the Federal Register on December 20, 1994 (59 FR 65478), May 10, 1995 (60 FR 24970), August 4, 1998 (63 FR 41625), and October 5, 1998 (63 FR 53290). The regulatory program was originally published in the Federal Register on August 12, 1988 (53 FR 30566), in response to the 1987 signing, by the U.S. and other countries, of the Montreal Protocol on Substances that Deplete the Ozone Layer (Protocol).¹

¹ Several revisions to the original 1988 rule were issued on the following dates: February 9, 1989 (54 FR 6376), April 3, 1989 (54 FR 13502), July 5, 1989 (54 FR 28062), July 12, 1989 (54 FR 29337), February 13, 1990 (55 FR 5005), June 15, 1990 (55 FR 24490) and June 22, 1990 (55 FR 25812) July 30, 1992 (57 FR 33754), and December 10, 1993 (58 FR 65018).

The requirements contained in the final rules published in the Federal Register on December 20, 1994 and May 10, 1995 establish an Allowance Program. The Allowance Program and its history are described in the notice of proposed rulemaking published in the Federal Register on November 10, 1994 (59 FR 56276). The control and the phaseout of the production and consumption of class I ozone-depleting substances as required under the Protocol and the CAA are accomplished through the Allowance Program.

In developing the Allowance Program, we collected information on the amounts of ozone-depleting substances produced, imported, exported, transformed and destroyed within the U.S. for specific baseline years for specific chemicals. This information was used to establish the U.S. production and consumption ceilings for these chemicals. The data were also used to assign company-specific production and import rights to companies that were in most cases producing or importing during the specific year of data collection. These production or import rights are called “allowances.” Due to the complete phaseout of many of the ozone-depleting chemicals, the quantities of allowances granted to companies for those chemicals were gradually reduced and eventually eliminated. Production allowances and consumption allowances continue to exist for only one specific class I controlled ozone-depleting substance—methyl bromide. All other production or consumption of class I controlled substances is prohibited under the Protocol and the CAA, but for a few narrow exemptions.

In the context of the regulatory program, the use of the term consumption may be misleading. Consumption does not mean the “use” of a controlled substance, but rather is defined as the formula: production + imports—exports, of controlled substances (Article 1 of the Protocol and Section 601 of the CAA). Class I controlled substances that were produced or imported through the expenditure of allowances prior to their phaseout date can continue to be used by industry and the public after that specific chemical's phaseout under these regulations, unless otherwise precluded under separate regulations.

The specific names and chemical formulas for the class I controlled ozone-depleting substances are in Appendix A and Appendix F in Subpart A of 40 CFR Part 82. The specific names and chemical formulas for the class II controlled ozone-depleting substances are in Appendix B and Appendix F in Subpart A.

Although the regulations phased out the production and consumption of class I, Group II substances (halons) on January 1, 1994, and all other class I controlled substances (except methyl bromide) on January 1, 1996, a very limited number of exemptions exist, consistent with U.S. obligations under the Protocol. The regulations allow for the manufacture of phased-out class I controlled substances, provided the substances are either transformed, or destroyed (40 CFR 82.4(b)). They also allow limited manufacture if the substances are (1) exported to countries operating under Article 5 of the Protocol or (2) produced for essential uses as authorized by the Protocol and the regulations. Limited exceptions to the ban on the import of phased-out class I controlled substances also exist if the substances are: (1) previously used, (2) imported for essential uses as authorized by the Protocol and the regulations, (3) imported for destruction or transformation only, or (4) a transhipment or a heel (a small amount of controlled substance remaining in a container after discharge) (40 CFR 82.4(d), 82.13(g)(2)).

II. What Is Methyl Bromide?

Methyl bromide is an odorless and colorless gas used in the U.S. and throughout the world as a fumigant. Methyl bromide, which is toxic to living things, is used in many different situations to control a variety of pests, such as: insects, weeds, pathogens, and nematodes. Additional characteristics and details about the uses of methyl bromide, as well as information on the basis for listing methyl bromide as a class I substance, can be found in the proposed rule published in the Federal Register on March 18, 1993 (58 FR 15014) and the final rule published in the Federal Register on December 10, 1993 (58 FR 65018). Updated information on methyl bromide can be found at the following sites of the World Wide Web: www.epa.gov/ozone/mbr/ and www.teap.org or by contacting the Stratospheric Ozone Protection Hotline at 1-800-296-1996.

III. What Is the Regulatory Background Relating Specifically to Methyl Bromide?

The Parties to the Protocol established a freeze in the level of methyl bromide production and consumption for industrialized countries at the 1992 Meeting in Copenhagen. The Parties agreed that each industrialized country's level of methyl bromide production and consumption in 1991 should be the baseline for establishing the freeze. EPA published a final rule in the Federal Register on December 10, 1993, listing methyl bromide as a class I, Group VI controlled substance, freezing U.S. production and consumption at this 1991 level, and, in § 82.7 of the rule, setting forth the percentage of baseline allowances for methyl bromide granted to companies in each control period (each calendar year) until the year 2001 (58 FR 65018). Consistent with the CAA requirements for newly listed class I ozone-depleting substances, this rule established a 2001 phaseout for methyl bromide. In the rule published in the Federal Register on December 30, 1993 (58 FR 69235), we established baseline methyl bromide production and consumption allowances for specific companies in § 82.5 and § 82.6.

At their 1997 meeting, the Parties agreed to establish the phaseout schedule for methyl bromide in industrialized countries. The U.S. Congress followed by amending the CAA (in Oct. 1998) to direct EPA to promulgate regulations reflecting the Protocol phaseout date of 2005, with interim phasedown steps in 1999, 2001, and 2003. EPA promulgated a regulation that was published in the Federal Register on June 1, 1999 (64 FR 29240), instituting the initial interim reduction of 25 percent in the production and import ² of methyl bromide for the 1999 and 2000 control periods. Currently, we grant 75 percent of the 1991 baseline methyl bromide allowances for each control period until 2001.

² The formula for “consumption” is production + import—export. Because “consumption” encompasses “production and import”, consumption is included by reference.

We expect to publish a proposed rule adding exemptions for production and import of quantities of methyl bromide that are used for quarantine and preshipment in late 2000. That proposal may also include a proposed ban on trade of methyl bromide with non-Parties to the Protocol, as decided by the Parties in 1997.

IV. How Is EPA Phasing Out Methyl Bromide?

a. What Does the Protocol Say About the Phaseout of Methyl Bromide?

As stated in Section I of this preamble, the U.S. was one of the original signatories to the Protocol. The U.S. ratified the Protocol on April 21, 1988. Today's amendment is designed to complete implementation of article 2H of the Protocol. Paragraphs 3 through 5 establish the remaining phaseout schedule for methyl bromide:

3. Each Party shall ensure that for the twelve-month period commencing on 1 January 2001, and in the twelve-month period thereafter, its calculated level of consumption of the controlled substance in Annex E does not exceed, annually, fifty percent of its calculated level of consumption in 1991. Each Party producing the substance shall, for the same periods, ensure that its calculated level of production of the substance does not exceed, annually, fifty percent of its calculated level of production in 1991 * * *

4. Each Party shall ensure that for the twelve-month period commencing on 1 January 2003, and in the twelve-month period thereafter, its calculated level of consumption of the controlled substance in Annex E does not exceed, annually, thirty percent of its calculated level of consumption in 1991. Each Party producing the substance shall, for the same periods, ensure that its calculated level of production of the substance does not exceed, annually, thirty percent of its calculated level of production in 1991 * * *

5. Each Party shall ensure that for the twelve-month period commencing on 1 January 2005, and in each twelve-month period thereafter, its calculated level of consumption of the controlled substance in Annex E does not exceed zero. Each Party producing the substance shall, for the same periods, ensure that its calculated level of production of the substance does not exceed zero * * *

Thus, Article 2H establishes obligations for the U.S. to reduce and eventually phase out its production and import of methyl bromide ³, apart from exemptions discussed later in this preamble and quantities of methyl bromide used for quarantine and preshipment uses.

³ The formula for “consumption” is production + import − export. Because “consumption” encompasses “production and import”, phasing out “production and import”, in effect, also phases out consumption.

b. What Is the Legal Authority for Phasing Out Methyl Bromide?

In response to ratification of the Protocol, Congress enacted, and President Bush signed into law, the Clean Air Act Amendments of 1990 (CAA or the Act) that included Title VI on Stratospheric Ozone Protection. As mentioned in section III of this preamble, Congress amended Title VI of the CAA with Section 764 of the 1999 Omnibus Consolidated Emergency Supplemental Appropriations Act (Public Law No. 105-277; October 21, 1998), directing EPA to reflect in its regulations the Protocol's most recent phasedown schedule for methyl bromide, and providing authority to create certain types of exemptions.

Today's amendments are designed to ensure that the U.S. meets its obligations under the Protocol and the CAA. Section 764(a) of the 1999 Omnibus Consolidated Emergency Supplemental Appropriations Act (Public Law No. 105-277; October 21, 1998) requires EPA to bring the schedule for the phaseout of methyl bromide into accordance with the Protocol. Specifically, the amendments direct EPA to:

* * * not terminate production of methyl bromide prior to January 1, 2005. The Administrator shall promulgate rules for reductions in, and terminate the production, importation, and consumption of, methyl bromide under a schedule that is in accordance with, but not more stringent than, the phaseout schedule of the Montreal Protocol Treaty as in effect on the date of the enactment of this subsection.

This language, which amends Section 604 of the CAA, adding a new paragraph (h), requires us to extend the timeline for the phasedown in § 82.7 so that it is in accordance with the current phasedown schedule under the Protocol. Thus, we are changing the phaseout date from January 1, 2001 to January 1, 2005.

EPA derives its authority for today's action from Section 604(h) of the Act.

c. What Are Today's Phasedown Changes?

In accordance with the Protocol's methyl bromide phaseout schedule, we are changing the percentage of baseline allowances for class I, Group VI substances granted in § 82.7. We are granting the following allowances to the companies listed in § 82.5 and § 82.6 for methyl bromide: 50 percent of baseline production and consumption allowances for 2001 and 2002; 30 percent of baseline production and consumption allowances for 2003 and 2004; and 0 percent of baseline production and consumption allowances beginning January 1, 2005.

V. What Are the Additional Changes Necessary To Facilitate the New Phaseout Schedule?

Many sections of Part 82 of the current regulations contain the original methyl bromide phaseout date, January 1, 2001. To update the regulations, we are changing many instances of “January 1, 2001,” when referencing methyl bromide, to “January 1, 2005.” In addition, in adding Group VI controlled substances to 82.4(b), we are providing for the production of methyl bromide past the phaseout date using Article 5 allowances.

VI. Are the Existing Regulations Being Amended To Reflect the Critical and Emergency Use Provisions (§ 82.3 (Definitions) and § 82.7)?

a. What Exemptions Does the Montreal Protocol Provide Beginning in 2005?

Because the CAA, by requiring consistency with the Montreal Protocol, does not allow these exemptions to be available until the complete phaseout in 2005, they cannot be utilized during the required interim phasedown period between now and December 31, 2004. Today, we are creating two reserved sections in the regulations, at § 82.4 (v) for critical use exemptions and at § 82.4 (w) for emergency use exemptions. Beyond reserving these sections, EPA is not amending Part 82 by adding the processes for these exemptions at this time. Because we are not adding the processes at this time, we are not requesting comment on these exemptions at this time. EPA intends to publish a proposal for a submittal process, timing, and the procedures by which the U.S. government would make determinations for both exemptions in a future notice and comment rulemaking. Any unsolicited comments addressing the critical and emergency use exemptions will be addressed in relation to that future proposal.

b. What Is the Montreal Protocol Authority for Granting a Critical Use Exemption After the Phaseout?

In recognition that substitutes may not be available by 2005 for certain important methyl bromide uses, the Protocol provides an exemption in Article 2H, paragraph 5 for critical uses.

Each Party shall ensure that for the twelve-month period commencing on 1 January 2005, and in each twelve-month period thereafter, its calculated level of consumption of the controlled substance in Annex E does not exceed zero * * * This paragraph will apply save to the extent that the Parties decide to permit the level of production or consumption that is necessary to satisfy uses agreed by them to be critical uses.

While not specifying which uses might be “critical,” the Parties established criteria and some procedural steps for determining whether a specific use should be approved as critical at their Ninth Meeting (1997) in Decision IX/6. Apart from quantities used for quarantine or preshipment, and limited production for export to Article 5 countries, production and import of methyl bromide are only permitted past January 1, 2005 for those uses approved under Decisions IX/6 or IX/7.

In Decision IX/6, the Parties agreed as follows:

(a) That a use of methyl bromide should qualify as ‘critical’ only if the nominating Party determines that:

(i) The specific use is critical because the lack of availability of methyl bromide for that use would result in a significant market disruption; and

(ii) There are no technically and economically feasible alternatives or substitutes available to the user that are acceptable from the standpoint of environment and health and are suitable to the crops and circumstances of the nomination * * *

Under paragraph 1(a), a Party nominating a specific use as being critical in its submission to the Protocol Parties must determine both that the unavailability of methyl bromide for this use would result in a significant market disruption and that there is a lack of acceptable and suitable alternatives. The Decision goes on to specify:

(b) That production and consumption, if any, of methyl bromide for a critical use should be permitted only if:

(i) All technically and economically feasible steps have been taken to minimize the critical use and any associated emission of methyl bromide;

(ii) Methyl bromide is not available in sufficient quantity and quality from existing stocks of banked or recycled methyl bromide, also bearing in mind the developing countries' need for methyl bromide;

(iii) It is demonstrated that an appropriate effort is being made to evaluate, commercialize and secure national regulatory approval of alternatives and substitutes * * * Non-Article 5 Parties must demonstrate that research programmes are in place to develop and deploy alternatives and substitutes * * *

The above paragraph of Decision IX/6 requires that a nomination further demonstrate to the Parties that the use of methyl bromide is minimized, that methyl bromide is not available through means other than production, and that alternatives are actively being pursued.

Paragraph (2) of Decision IX/6 requests the Technology and Economic Assessment Panel (TEAP) to evaluate the nominations according to the criteria in paragraphs 1(a)(ii) and 1(b). In essence, 1(a)(ii) and 1(b) direct TEAP to evaluate a proposed exemption according to:

(1) The availability of, as well as efforts to find, receive approval of, and market, alternatives for that particular use;

(2) Efforts to minimize use and emissions; and,

(3) The potential for meeting that need through banked or recycled methyl bromide.

c. What Is the CAA Legal Authority for Implementing the Critical Use Exemption?

Any critical use exemption must comply with the provisions of the CAA. Section 604(d)(6), added by Section 764 of the 1999 Omnibus Consolidated and Emergency Supplemental Appropriations Act (Public Law No. 105-277; October 21, 1998), states that:

To the extent consistent with the Montreal Protocol, the Administrator, after notice and the opportunity for public comment, and after consultation with other departments or institutions of the Federal Government having regulatory authority related to methyl bromide, including the Secretary of Agriculture, may exempt the production, importation, and consumption of methyl bromide for critical uses.

With this most recent amendment to the CAA, Congress authorizes EPA to provide critical use exemptions. Furthermore, by requiring consistency with the Protocol, Congress obligates EPA to provide these exemptions only according to the timeframe specified in the Protocol (after January 1, 2005) and only (as specified in Article 2H, Paragraph 5) “to the extent that the Parties decide to permit the level of production or consumption that is necessary to satisfy uses agreed by them to be critical uses.”

d. How Will the U.S. Incorporate the Critical Use Exemption?

Consistent with the Montreal Protocol and Congress's recent addition to the CAA, the critical use exemption cannot apply until the complete phaseout, in 2005. The Protocol, as explained in “a” and “b” of this section, specifies in Paragraph 5 of Article 2H that, “commencing on 1 January 2005 * * * [the phaseout] will apply save to the extent that the Parties decide to permit the level of production or consumption that is necessary to satisfy uses agreed by them to be critical uses.” The CAA, as described in “b” above, requires this schedule by providing the critical use exemption “to the extent consistent with the Montreal Protocol.” Thus, we are not delineating specifics related to this exemption in today's action. However, we intend to permit limited continued production for critical uses agreed to by the Parties to the Protocol for the period after January 2005.

We are reserving a section of the regulation for a future rulemaking to incorporate the critical use provisions from the Protocol and the CAA into our domestic allowance program. We plan to propose in a future rulemaking the creation of a new class of exemptions that may be referred to as “critical use allowances.” In that future rulemaking, we plan to propose details related to critical use exemption procedures and criteria, as well as request nominations for critical uses needed beyond 2005. The details of the critical use exemption have yet to be defined. We plan to hold stakeholder meetings in the near future to solicit ideas in developing a proposal for the implementation of a streamlined critical use exemption process in accordance with U.S. obligations under the Protocol and consistent with CAA requirements.

The economic and geographical issues that are unique to methyl bromide and its applications will be considered as we develop the details of the exemption program, including the submittal process, timing, and the procedures we will use in making determinations for this exemption. The process for obtaining a critical use exemption could resemble the process used for essential use exemptions for other Class I ozone-depleting substances like CFCs (Decision IV/25; 58 FR 6786, 29410, 53722). However, because of the economic and geographical issues unique to methyl bromide and its applications, it is possible that the critical use exemption process could also vary significantly from the essential use process.

e. What Is the Protocol Authority for Granting an Emergency Use Exemption?

As discussed above, the Parties also established the emergency use exemption for methyl bromide at their Ninth Meeting (Decision IX/7). Decision IX/7 allows the Parties to consume,

* * * in response to an emergency event * * * , quantities not exceeding 20 tonnes of methyl bromide. The Secretariat and the Technology and Economic Assessment Panel will evaluate the use according to the ‘critical methyl bromide use’ criteria and present this information to the next meeting of the Parties for review and appropriate guidance on future such emergencies, including whether or not the figure of 20 tonnes is appropriate.

As can be seen from the language of Decision IX/7, the emergency use exemption is essentially an abbreviated critical use process allowing limited consumption of methyl bromide in response to an emergency. Because Article 2H does not contemplate consumption for critical uses prior to the complete phaseout in 2005, neither the critical use exemption nor its abbreviated form—the emergency use exemption—will be available until that date. Each emergency use will be evaluated by the Parties after its occurrence. EPA plans to provide details of an emergency use process in the same future proposal addressing the complete critical use process.

f. What Is the CAA Legal Authority for Implementing the Emergency Use Exemption?

While this exemption is not explicitly included as a separate item in the most recent Congressional changes to the CAA [Section 764 of the 1999 Omnibus Consolidated Emergency Supplemental Appropriations Act (Public Law No. 105-277)], we believe that Congress' grant of authority in 604(d)(6) to exempt critical uses is sufficiently broad to cover not only the full critical use process but also the abbreviated form of this process, that is, the emergency use exemption.

g. How Will Decision IX/7 Affect Emergency Agricultural Uses in the U.S.?

Because the emergency use exemption will not be available until the complete phaseout (2005), we are not delineating specifics related to this exemption in today's action. However, we intend to permit limited production for emergency uses beginning in 2005. To incorporate the Protocol's emergency use Decision into our domestic allowance program, we may create, through a future rulemaking, a new class of exemptions to be referred to as “emergency use allowances.” In a future rulemaking, we plan to propose criteria and processes for exempting and using methyl bromide for an emergency event after January 1, 2005.

VII. Will Production Allowances be Available for Export to Developing Countries (§ 82.9)?

a. What Does the Protocol Say About 2001 Production Allowances for Export to Developing Countries?

The Parties believed that during the phasedown period, existing production facilities in industrialized countries should be able to supply developing countries (Parties operating under Article 5, paragraph 1, of the Protocol), thereby decreasing incentives for construction of new plants in those countries. Thus, the Protocol allows industrialized countries to produce limited, additional methyl bromide explicitly for export to developing countries during the phasedown in the industrialized countries. Article 2H, paragraph 5, of the Protocol states that,

* * * in order to satisfy the basic domestic needs of the Parties operating under Paragraph 1 of Article 5, [each Party's] calculated level of production may, until 1 January 2002 exceed [the relevant] limit by up to fifteen percent of its calculated level of production in 1991; * * *

The Beijing adjustments that added the above text entered into force on July 28, 2000.

b. How Did the U.S. Provide for Article 5 Allowances in the CAA?

Domestically, the Protocol provisions that allow limited production for export to Article 5 countries are reflected in section 604 of the CAA. The current phaseout requirements for methyl bromide appear in section 604(h) of the CAA, as added by Section 764 of the 1999 Omnibus Consolidated and Emergency Supplemental Appropriations Act (Public Law No. 105-277). In adding section 604(h), Congress also added a provision to 604(e) that specifically addresses production of methyl bromide for export to developing countries. This provision, section 604(e)(3), states that:

* * * the Administrator may, consistent with the Protocol, authorize the production of limited quantities of methyl bromide, solely for use in developing countries that are Parties to the Copenhagen Amendments to the Montreal Protocol.

Thus, the CAA directs EPA to be consistent with the Protocol in creating Article 5 allowances. As stated in “a” of this section, Article 2H, paragraph 5 of the Protocol allows, prior to January 1, 2002, production for export to Article 5 countries of up to 15 percent of the 1991 baseline. Therefore, today's amendments to the phaseout regulations reflect this Article 5 allowance for 2001.

c. What Production for Export to Article 5 Countries Will Be Allowed Past 2001?

As explained above, the CAA specifies that we provide the allowances for export to Article 5 countries in accordance with the Protocol. The Protocol allows industrialized countries to produce limited, additional methyl bromide explicitly for export to developing countries during and after the phasedown in the industrialized countries.

Article 2H, paragraph 5 of the Protocol states that from January 1, 2002 until January 1, 2005,

* * *[the calculated level of production] may exceed [the relevant] limit by a quantity equal to the annual average of its production of the controlled substance in Annex E for basic domestic needs for the period 1994 to 1998 inclusive.

Furthermore, the Protocol provides a more relaxed methyl bromide phaseout schedule for developing countries. Article 5 countries are obligated to phase out methyl bromide completely by January 1, 2015. The difference between the methyl bromide phasedown schedule in developing and industrialized countries creates the possibility for developing countries to import methyl bromide beyond the phaseout in industrialized countries (i.e., past January 1, 2005). Thus, an allowance for export is needed past the U.S. domestic phaseout. Article 2H, paragraph 5 bis., provides that:

* * * commencing on 1 January 2005 and in each twelve-month period thereafter, [each Party's] calculated level of production of [methyl bromide] for the basic domestic needs of the Parties operating under paragraph 1 of Article 5 does not exceed eighty per cent of the annual average of its production of the substance for basic domestic needs for the period 1995 to 1998 inclusive.

The Protocol goes on to specify in Article 2H, paragraph 5 ter. that:

* * * commencing on 1 January 2015 and in each twelve-month period thereafter, [each Party's] calculated level of production of [methyl bromide] for the basic domestic needs of the Parties operating under paragraph 1 of Article 5 does not exceed zero.

The 1995 to 1998 average production for export to Article 5 countries was specified as the post-2001 baseline for production for export to Article 5 countries at the Eleventh Meeting of the Parties to the Montreal Protocol in Beijing. Because the Adjustments made in Beijing replace the 1991 production baseline with this new baseline, we will be granting allowances to produce methyl bromide for export to Article 5 countries beyond 2001 in a rulemaking to be completed before 2002. We need time to ensure the technical accuracy of the Article 5 allowance amounts for 2002 and beyond. We plan to, as soon as possible, promulgate another rule laying out the allowances for export to Article 5 countries past 2001 according to the CAA and the Protocol. From 2002 to 2005, we plan to grant the average of the 1995 through 1998 production for export to Article 5 countries. From 2005 to 2015, when the developing countries phase out methyl bromide (except for previously discussed exemptions), we plan to grant the current industrialized countries' production allowance for export to Article 5 countries of 80% of the 1995 through 1998 average of production for export to Article 5 countries.

Because we are not adding the Article 5 Allowances past 2001 at this time, we are not requesting comment on these allowances at this time. EPA intends to publish a proposal for these allowances in a future notice and comment rulemaking in 2001. Any unsolicited comments addressing Article 5 Allowances past 2001 will be addressed in relation to that future proposal.

VIII. How Do Today's Changes Affect the Economic Impact of the Phaseout?

In preparing the final rule that established the original 2001 phaseout date for methyl bromide (58 FR 69235), we conducted a Cost Effectiveness Analysis, dated September 30, 1993, under the title, “Part 2, The Cost and Cost-Effectiveness of the Proposed Phaseout of Methyl Bromide” (Docket A-92-13, Document Number IV-A-23). In preparing for the initial interim 25% reduction, we conducted an addendum to the 1993 analysis (Docket A-92-13, Document Number II-A-41). For today's interim and final reductions in methyl bromide production and import, we conducted a Regulatory Impact Analysis as an update to the 1993 analysis, and in addition to the 1999 addendum. This RIA was not used as a basis for deciding on phasedown and phaseout percentages and dates. Rather, the dates are dictated by the Montreal Protocol and the Clean Air Act Amendments of 1998. The original (1993) annualized cost estimate for the 2001 phaseout, adjusted to 1998 dollars, is $159 million. The results of the updated analysis, which will be available in conjunction with our forthcoming proposed rule addressing quarantine and preshipment, are expected to indicate that extending the phaseout deadline will result in cost savings, when compared to the cost estimate for the 2001 phaseout.

IX. What Are the Supporting Analyses?

a. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's rule contains federal mandates (under the regulatory provisions of the Title II of the UMRA) for the private sector. However, the rule implements mandates specifically and explicitly set forth by the Congress in section 604(h) of the CAA, as added by Section 764 of the 1999 Omnibus Consolidated Emergency Supplemental Appropriations Act (Public Law No. 105-277), without the exercise of any policy discretion by EPA. In particular, this rule implements the directive in section 604(h) of the CAA to promulgate a methyl bromide phaseout schedule that is in accordance with the schedule under the Montreal Protocol. EPA has determined that this rule does not contain a Federal mandate that may result in expenditures of $100 million or more for State, local, and tribal governments, in the aggregate, or the private sector in any one year. Because this rule extends the current phaseout, the rule reduces costs. Thus, today's rule is not subject to the requirements of sections 202 or 205 of the UMRA.

We determined that this rule contains no regulatory requirements that might significantly or uniquely affect small governments; therefore, we are not required to develop a plan with regard to small governments under section 203. Finally, because this rule does not contain a significant intergovernmental mandate, the Agency is not required to develop a process to obtain input from elected state, local, and tribal officials under section 204.

b. Regulatory Flexibility

EPA has determined that it is not necessary to prepare a regulatory flexibility analysis in connection with this final rule. EPA has also determined that this rule will not have a significant impact on a substantial number of small entities.

For purposes of assessing the impacts of today's rule on small entities, small entity is defined as:

(1) A small business that is identified by the Standard Industrial Classification (SIC) Code in the Table below. The size standards described in this section apply to all Small Business Administration (SBA) programs unless otherwise specified. The size standards themselves are expressed either in number of employees or annual receipts in millions of dollars, unless otherwise specified. The number of employees or annual receipts indicates the maximum allowed for a concern and its affiliates to be considered small.

Type of enterprise | SIC code/ division | Size standard
Industrial Organic Chemicals | 2813 | 1,000
Wholesale Trade | Division F | 100

(2) A small governmental jurisdiction that is a government of a city, county, town, school district or special district with a population of less than 50,000; and

(3) A small organization that is any not-for-profit enterprise which is independently owned and operated and is not dominant in its field.

Today's direct final rule will not impose any requirements on small entities, as it regulates large, multinational corporations that either produce, import or export class I, group VI ozone-depleting substances.

c. Executive Order 12866

Under Executive Order 12866 (58 FR 51735, October 4, 1993), the Agency must determine whether this regulatory action is “significant” and therefore subject to OMB review and the requirements of the Executive Order. The Order defines a “significant” regulatory action as one that is likely to result in a rule that may:

(1) Have an annual effect on the economy of $100 million or more, or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, OMB has notified EPA that it considers this an “economically significant regulatory action” within the meaning of the Executive Order. EPA has submitted this action to OMB for review. Changes made in response to OMB suggestions or recommendations will be documented in the public record.

d. Applicability of Executive Order 13045—Children's Health Protection

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Order has the potential to influence the regulation. This rule is not subject to Executive Order 13045 because it implements a Congressional directive to phase out production and import of methyl bromide in accordance with the schedule under the Protocol.

e. Paperwork Reduction Act

This action does not add any information collection requirements or increase burden under the provisions of the Paperwork Reduction Act, 44 U.S.C. 3501 et seq. The Office of Management and Budget (OMB) previously approved the information collection requirements contained in the final rule promulgated on May 10, 1995, and assigned OMB control number 2060-0170 (EPA ICR No. 1432.17).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to, a collection of information unless it displays a currently valid OMB control number. The OMB control numbers for EPA's regulations are listed in 40 CFR Part 9 and 48 CFR Chapter 15.

f. Executive Order 13132 (Federalism)

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This rule does not have federalism implications. It will not have substantial direct effects on the States, on the relationship between the national government and the States, or on the distribution of power and responsibilities among the various levels of government, as specified in Executive Order 13132. This rule regulates large, multinational corporations that either produce, import or export class I, group VI ozone-depleting substances. It implements mandates specifically and explicitly set forth by the Congress in section 604(h) of the CAA, as added by Section 764 of the 1999 Omnibus Consolidated Emergency Supplemental Appropriations Act (Public Law No. 105-277), without the exercise of any policy discretion by EPA. Thus, Executive Order 13132 does not apply to this rule.

g. Executive Order 13084: Consultation and Coordination With Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies or matters that significantly or uniquely affect their communities.”

Today's rule implements requirements specifically set forth by Congress in section 604(h) of the CAA, as added by Section 764 of the 1999 Omnibus Consolidated Emergency Supplemental Appropriations Act (Public Law No. 105-277), without the exercise of any discretion by EPA. Accordingly, the requirements of section 3(b) of Executive Order 13084 do not apply to this rule.

h. The National Technology Transfer and Advancement Act

Section 12(d) of the National Technology Transfer and Advancement Act of 1995 (“NTTAA”), Public Law No. 104-113, Section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This rulemaking does not involve technical standards. Therefore, EPA did not consider the use of any voluntary consensus standards.

i. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This rule is a “major rule” as defined by 5 U.S.C. 804(2). This rule will be effective January 29, 2001.

List of Subjects in 40 CFR Part 82

Environmental protection, Administrative practice and procedure, Air pollution control, Chemicals, Exports, Imports, Methyl bromide, Ozone layer.

Dated: November 17, 2000.
Carol M. Browner,
Administrator.

For reasons set out in the preamble, title 40 chapter I of the Code of Federal Regulations is amended as follows:

PART 82—PROTECTION OF STRATOSPHERIC OZONE

1. The authority citation for part 82 continues to read as follows:

Authority: 42 U.S.C. 7414, 7601, 7671-7671q.

Subpart A—Production and Consumption Controls

2. Section 82.4 is amended by:

a. Revising the first sentence of paragraph (a),

b. Revising the first sentence of paragraph (b),

c. Revising the first sentence of paragraph (c),

d. Revising the first sentence of paragraph (d),

e. Removing the second sentence of paragraph (h) and adding two sentences in its place,

f. Revising the first 2 sentences of paragraph (k),

g. Adding and reserving paragraphs (v) and (w).

The revisions and additions read as follows:

§ 82.4 Prohibitions.

(a) Prior to January 1, 1996, for all Groups of class I controlled substances, and prior to January 1, 2005, for class I, Group VI controlled substances, no person may produce, at any time in any control period, (except that are transformed or destroyed domestically or by a person of another Party) in excess of the amount of unexpended production allowances or unexpended Article 5 allowances for that substance held by that person under the authority of this subpart at that time for that control period. * * *

(b) Effective January 1, 1996, for any class I, Group I, Group II, Group III, Group IV, Group V, or Group VII controlled substances, and effective January 1, 2005, for any class I, Group VI controlled substances, no person may produce, at any time in any control period, (except that are transformed or destroyed domestically or by a person of another Party) in excess of the amount of conferred unexpended essential-use allowances or exemptions under this section, the amount of unexpended Article 5 allowances as allocated under § 82.9, or the amount of conferred unexpended destruction and transformation credits as obtained under § 82.9 for that substance held by that person under the authority of this subpart at that time for that control period. * * *

(c) Prior to January 1, 1996, for all Groups of class I controlled substances and prior to January 1, 2005, for class I, Group VI controlled substances, no person may produce or (except for transhipments, heels or used controlled substances) import, at any time in any control period, (except for controlled substances that are transformed or destroyed) in excess of the amount of unexpended consumption allowances held by that person under the authority of this subpart at that time for that control period. * * *

(d) Effective January 1, 1996, for any class I, Group I, Group II, Group III, Group IV, Group V, or Group VII controlled substances, and effective January 1, 2005, for any class I, Group VI controlled substances, no person may import (except for transhipments or heels), at any time in any control period, (except for controlled substances that are transformed or destroyed) in excess of the amount of unexpended essential-use allowances or exemptions as allocated under this section or the amount of unexpended destruction and transformation credits obtained under § 82.9, held by that person under the authority of this subpart at that time for that control period. * * *

* * * * *

(h) * * * In addition to total production permitted under paragraph (f) of this section, effective January 1, 2001, for class I, Group VI controlled substances, a person may, at any time, until January 1, 2002, produce 15 percent of baseline production as apportioned under § 82.5 for export to Article 5 countries. No person may, at any time, in any control period until January 1, 2000, produce class I, Group I, Group II, Group III, Group IV, and Group V controlled substances, and no person may, at any time until January 1, 2002, produce class I Group VI controlled substances for export to Article 5 countries in excess of the Article 5 allowances allocated under § 82.9(a). * * *

* * * * *

(k) Prior to January 1, 1996, for all Groups of class I controlled substances, and prior to January 1, 2005, for class I, Group VI controlled substances, a person may not use production allowances to produce a quantity of a class I controlled substance unless that person holds under the authority of this subpart at the same time consumption allowances sufficient to cover that quantity of class I controlled substances nor may a person use consumption allowances to produce a quantity of class I controlled substances unless the person holds under authority of this subpart at the same time production allowances sufficient to cover that quantity of class I controlled substances. However, prior to January 1, 1996, for all class I controlled substances, and prior to January 1, 2005, for class I, Group VI controlled substances, only consumption allowances are required to import, with the exception of transhipments, heels and used controlled substances. * * *

* * * * *

(v) Critical use exemption. [Reserved]

(w) Emergency use exemption. [Reserved]

3. Section 82.7 is revised to read as follows:

§ 82.7 Grant and phase reduction of baseline production and consumption allowances for class I controlled substances.

For each control period specified in the following table, each person is granted the specified percentage of the baseline production and consumption allowances apportioned to him under § 82.5 and 82.6 of this subpart.

Control period | Class I substances in groups I and III, (In percent) | Class I substances in group II, (In percent) | Class I substances in group IV (In percent) | Class I substances in group V (In percent) | Class I substances in group VI (In percent) | Class I substances in group VII (In percent)
1994 | 25 | 0 | 50 | 50 | 100 | 100
1995 | 25 | 0 | 15 | 30 | 100 | 100
1996 | 0 | 0 | 0 | 0 | 100 | 0
1997 | 0 | 0 | 0 | 0 | 100 | 0
1998 | 0 | 0 | 0 | 0 | 100 | 0
1999 | 0 | 0 | 0 | 0 | 75 | 0
2000 | 0 | 0 | 0 | 0 | 75 | 0
2001 |  |  |  |  | 50 |
2002 |  |  |  |  | 50 |
2003 |  |  |  |  | 30 |
2004 |  |  |  |  | 30 |
2005 |  |  |  |  | 0 |

4. Section 82.9 is amended by:

a. Revising paragraph (a)(2),

b. Revising the first sentence of paragraph (e) introductory text,

c. Revising paragraph (e)(1) introductory text,

d. Revising the first sentence of paragraph (e)(2),

e. Revising the first sentence of paragraph (e)(3).

The revisions read as follows:

§ 82.9 Availability of allowances in addition to baseline production allowances.

(a) * * *

(2) 15 percent of their baseline production allowances for class I, Group VI controlled substances listed under § 82.5 of this subpart for each control period ending before January 1, 2002;

* * * * *

(e) Until January 1, 1996 for all class I controlled substances, except Group VI, and until January 1, 2005 for class I, Group VI, a person may obtain production allowances for that controlled substance equal to the amount of that controlled substance produced in the United States that was transformed or destroyed within the United States, or transformed or destroyed by a person of another Party, in the cases where production allowances were expended to produce such substance in the U.S. in accordance with the provisions of this paragraph. * * *

(1) Until January 1, 1996, for all class I controlled substances, except Group VI, and until January 1, 2005, for class I, Group VI, a person must submit a request for production allowances that includes the following:

* * * * *

(2) Until January 1, 1996 for all class I controlled substances, except Group VI, and until January 1, 2005, for class I, Group VI, the Administrator will review the information and documentation submitted under paragraph (e)(1) of this section and will assess the quantity of class I controlled substance that the documentation and information verifies was transformed or destroyed. * * *

(3) Until January 1, 1996 for all class I controlled substances, except Group VI, and until January 1, 2005, for class I, Group VI, if the Administrator determines that the request for production allowances does not satisfactorily substantiate that the person transformed or destroyed controlled substances as claimed, or that modified allowances were not expended, the Administrator will issue a notice disallowing the request for additional production allowances. * * *

* * * * *

5. Section 82.10 is amended by revising paragraphs (a) introductory text, (a)(1) introductory text, the first sentence of (b), and the first sentence of paragraph (c) introductory text as follows:

§ 82.10 Availability of consumption allowances in addition to baseline consumption allowances.

(a) Until January 1, 1996 for all class I controlled substances, except Group VI, and until January 1, 2005, for class I, Group VI, any person may obtain, in accordance with the provisions of this subsection, consumption allowances equivalent to the level of class I controlled substances (other than used controlled substances or transhipments) that the person has exported from the United States and its territories to a Party (as listed in appendix C to this subpart).

(1) Until January 1, 1996 for all class I controlled substances, except Group VI, and until January 1, 2005, for class I, Group VI, to receive consumption allowances in addition to baseline consumption allowances, the exporter of the class I controlled substances must submit to the Administrator a request for consumption allowances setting forth the following:

* * * * *

(b) Until January 1, 1996, a person may obtain consumption allowances for a class I controlled substance (and until January 1, 2005 for class I, Group VI) equal to the amount of a controlled substance either produced in, or imported into, the United States that was transformed or destroyed in the case where consumption allowances were expended to produce or import such substance in accordance with the provisions of this paragraph. * * *

(c) A company may also increase its consumption allowances by receiving production from another Party to the Protocol for class I, Group I through Group V and Group VII controlled substances until January 1, 1996 and for class I, Group VI controlled substances until January 1, 2005. * * *

* * * * *

6. Section 82.12 is amended by revising paragraphs (a)(1) introductory text and (b)(1) as follows:

§ 82.12 Transfers.

(a) * * *

(1) Until January 1, 1996, for all class I controlled substances, except for Group VI, and until January 1, 2005, for Group VI, and person (“transferor”) may transfer to any other person (“transferee”) any amount of the transferor's consumption allowances or production allowances, and effective January 1, 1995, for all class I controlled substances any person (“transferor”) may transfer to any other person (“transferee”) any amount of the transferor's Article 5 allowances, as follows:

* * * * *

(b) * * *

(1) Until January 1, 1996, for all class I controlled substances, except Group VI, and until January 1, 2005 for Group VI, any person (“convertor”) may convert consumption allowances or production allowances for one class I controlled substance to the same type of allowance for another class I controlled substance within the same Group as the first as listed in appendix A of this subpart, following the procedures described in paragraph (b)(4) of this section.

* * * * *

[FR Doc. 00-30109 Filed 11-27-00; 8:45 am]

BILLING CODE 6560-50-P